ENVIRONMENTAL PROTECTION AGENCY

[FRL-6880-4]

Proposed CERCLA Administrative Cost Recovery Settlement; Jasco Chemical Superfund Site

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past and future response costs concerning the Jasco Chemical Superfund Site in Mountain View, California with the following settling parties: JASCO Chemical Corporation, Harry M. Anthony, and Carol Jean Anthony. The settlement requires the settling parties to pay $5,862.60, all of the outstanding past response costs as of 31 March 2000, and all future response costs (costs after 31 March 2000) to the U.S. Environmental Protection Agency (the “Agency” or “EPA”) Hazardous Substance Superfund. Under the terms of the AOC, the Parties will pay $5,862.60 to the Superfund within 10 days of the effective date of the AOC. Furthermore, the Parties agree to pay the United States' future response costs incurred at or in connection with the Site. Upon payment by the settling parties of EPA's response costs, the settling parties shall have resolved any and all civil liability to EPA under Section 107(a) of CERCLA, 42 U.S.C. 9607(a), for reimbursement of such response costs. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Jasco Chemical Superfund Site at 1710 Villa Street, Mountain View, California and at USEPA Region IX, 75 Hawthorne Street, San Francisco, California.

DATES: Comments must be submitted on or before November 3, 2000.

ADDRESSES: The proposed settlement document is available for public inspection at EPA Region IX, 75 Hawthorne Street, San Francisco, California. A copy of the proposed settlement document may be obtained from Ellen Manges, Superfund Division (SFD-7-2), USEPA Region IX, 75 Hawthorne St., San Francisco, California, (415) 744-2228. Comments should reference the Jasco Chemical Superfund Site, Mountain View, California, and EPA Docket No. 2000-11 and should be addressed to Ellen Manges, Superfund Division (SFD-7-2), USEPA Region IX, 75 Hawthorne St., San Francisco, California.

FOR FURTHER INFORMATION CONTACT: Ellen Manges, Superfund Division (SFD-7-2), USEPA Region IX, 75 Hawthorne St., San Francisco, California, (415) 744-2228.

Dated: September 25, 2000.
John Kemmerer,
Acting Director, Superfund Division, Region IX.

[FR Doc. 00-25472 Filed 10-3-00; 8:45 am]

BILLING CODE 6560-50-U